DEPARTMENT OF HEALTH AND HUMAN SERVICES

Centers for Disease Control and Prevention

[Docket Number NIOSH-238]

Draft Alert Entitled “Preventing Occupational Respiratory Disease From Dampness in Office Buildings, Schools, and Other Nonindustrial Buildings”

AGENCY: National Institute for Occupational Safety and Health (NIOSH) of the Centers for Disease Control and Prevention (CDC), Department of Health and Human Services (HHS).

ACTION: Notice of draft document for public comment.

SUMMARY: The National Institute for Occupational Safety and Health (NIOSH) of the Centers for Disease Control and Prevention (CDC), announces the availability of a draft Alert entitled “Preventing Occupational Respiratory Disease from Dampness in Office Buildings, Schools, and other Nonindustrial Buildings” now available for public comment. The draft document and instructions for submitting comments can be found at: http://nioshdev.cdc.gov/niosh/docket/review/docket238/default.html. The purpose of this Alert is to provide workers and employers with information necessary for prevention of respiratory disease and proper response to damp building conditions. This guidance does not have the force and effect of the law.

Public Comment Period: Comments must be received by July 12, 2011.

ADDRESSES: Written comments may be submitted to the NIOSH Docket Office, identified by Docket Number NIOSH-238, by any of the following ways:

• Mail: NIOSH Docket Office, Robert A. Taft Laboratories, 4676 Columbia Parkway, MS C-34, Cincinnati, Ohio 45226.

• Facsimile: (513) 533-8285.

• E-mail: nioshdocket@cdc.gov.

All information received in response to this notice will be available for public examination and copying at the NIOSH Docket Office, 4676 Columbia Parkway, Room 109, Cincinnati, Ohio 45226. The comment period for NIOSH-238 will close on July 12, 2011. All comments received will be available on the NIOSH Docket Web page at http://www.cdc.gov/niosh/docket, by August 9, 2011, and comments will be available in writing by request. NIOSH includes all comments received without change in the docket, including any personal information provided. All electronic comments should be formatted as Microsoft Word. Please make reference to Docket Number NIOSH-238.

FOR FURTHER INFORMATION CONTACT: Michelle R. Martin, M.A., NIOSH/CDC, 1095 Willowdale Road, Morgantown, WV 26505, telephone (304) 285-5734, e-mail mij2@cdc.gov.

Dated: May 11, 2011.
John Howard,
Director, National Institute for Occupational Safety and Health, Centers for Disease Control and Prevention.

[FR Doc. 2011-12166 Filed 5-17-11; 8:45 am]

BILLING CODE 4163-19-P